DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 2, 2009.

Interested persons are invited to submit written comments regarding the subject matter of the investigations to the Director, Division of Trade Adjustment Assistance, at the address shown below, not later than October 2, 2009.

The petitions filed in this case are available for inspection at the Division of Trade Adjustment Assistance, Employment and Training Administration, U.S. Department of Labor, Room N-5428, 200 Constitution Avenue, NW., Washington, DC 20210.

Signed at Washington, DC, this 31st day of August 2009.
Linda G. Poole,
Certifying Officer, Division of Trade Adjustment Assistance.

Appendix
TAA Petitions Instituted Between 8/10/09 and 8/14/09
TA-W | Subject firm (petitioners) | Location | Date of institution | Date of petition
71955 | Felsted Products LLC (Comp) | Holmesville, OH | 08/10/09 | 08/07/09
71956 | Beck Manufacturing (Wkrs) | Aurora, OH | 08/10/09 | 07/22/09
71957 | AMETECK National Controls Corporation (Comp) | West Chicago, IL | 08/10/09 | 08/06/09
71958 | Indiana Mills and Manufacturing, Inc. (Wkrs) | Westfield, IN | 08/10/09 | 08/07/09
71959 | Alpine Biomed (Including Kelly Services) (State) | Fountain Valley, CA | 08/10/09 | 08/07/09
71960 | Hexagon Metrology, Inc. (Comp) | Fond du Lac, WI | 08/10/09 | 08/07/09
71961 | CAPR GROUP ACQUISITION, LCC (Comp) | West Chesterfield, NH | 08/10/09 | 08/04/09
71962 | ConMed Electrosurgery (Comp) | El Paso, TX | 08/10/09 | 08/07/09
71963 | MAHLE Filter Systems North America, Inc. (Comp) | Murfreesboro, TN | 08/10/09 | 08/06/09
71964 | DeLong Sportswear (State) | Atlantic, IA | 08/10/09 | 07/09/09
71965 | Pioneer Automotive technology, Inc. (Wkrs) | Springboro, OH | 08/10/09 | 08/07/09
71966 | Millat Industries Corp. (Wkrs) | Dayton, OH | 08/10/09 | 08/03/09
71967 | Williamsburg Manufacturing (Comp) | Williamsburg, IA | 08/10/09 | 08/05/09
71968 | Henniges Automotive (Comp) | Farmington Hills, MI | 08/10/09 | 08/07/09
71969 | Shaw Process Fabricators Inc. (State) | West Monroe, LA | 08/10/09 | 08/07/09
71970 | Johnson Electric (SAIA—Burgess) (Comp) | Vandalia, OH | 08/11/09 | 08/10/09
71971 | Knaack MB (Wkrs) | Crystal Lake, IL | 08/11/09 | 08/04/09
71972 | Agility Logistic Company (State) | Santa Ana, CA | 08/11/09 | 07/13/09
71973 | IDA, Inc. (Wkrs) | Heron, MT | 08/11/09 | 08/10/09
71974 | Exide Technologies Inc. (Comp) | Fort Smith, AR | 08/11/09 | 07/30/09
71975 | Parker Hannifin, Pneumatic Division (Union) | Canton, PA | 08/11/09 | 07/27/09
71976 | Minuteman-Powerboss (Wkrs) | Aberdeen, NC | 08/11/09 | 08/10/09
71977 | Parker Hanifin Corp. (Wkrs) | Forest City, NC | 08/11/09 | 08/06/09
71978 | Swanson Group/Swanson Aviation (Wkrs) | Grants Pass, OR | 08/11/09 | 08/05/09
71979 | Parts Finishing Group (Wkrs) | Kendallville, IN | 08/11/09 | 08/10/09
71980 | Montezuma Manufacturing (Wkrs) | Montezuma, IA | 08/11/09 | 08/05/09
71981 | Bailey Karit Corp. (Comp) | Fort Payne, AL | 08/11/09 | 08/05/09
71982 | Altadis U.S.A., Inc. (State) | Tampa, FL | 08/11/09 | 08/06/09
71983 | Weber Automotive Corporation (State) | Summerville, SC | 08/11/09 | 08/04/09
71984 | Seagrott Floral Company, Inc. (Comp) | Albany, NY | 08/11/09 | 08/10/09
71985 | Eaton (Wkrs) | Sumter, SC | 08/11/09 | 08/04/09
71986 | TMK/IPSCO Tubulars Kentucky Inc. (Union) | Newport, KY | 08/11/09 | 07/31/09
71987 | Columbia GasTransmission LLC (Wkrs) | Sugar Grove, OH | 08/11/09 | 08/10/09
71988 | Kenosha Leatherette & Display Company (IAMAW`) | Kenosha, WI | 08/11/09 | 07/27/09
71989 | United Air Lines, Inc. (IBT) | Newark, NJ | 08/11/09 | 08/04/09
71990 | United Air Lines, Inc. (IBT) | Flushing, NY | 08/11/09 | 08/07/09
71991 | Ironwood Plastics (Wkrs) | Ironwood, MI | 08/12/09 | 08/03/09
71992 | Five-M Apparel Inc. (Comp) | Tranton, TN | 08/12/09 | 08/10/09
71993 | Matthews Bronze (Comp) | Seneca Falls, NY | 08/12/09 | 08/11/09
71994 | Hartmarx-Hart Schaffner & Marx (Union) | Rock Island, IL | 08/12/09 | 08/11/09
71995 | Honeywell Technology Solutions, Inc. (Wkrs) | Piketown, OH | 08/12/09 | 08/11/09
71996 | Mizar Motors, Inc. (Comp) | Toledo, OH | 08/12/09 | 07/13/09
71997 | Hartmarx-Hart Schaffner & Marx (Union) | Michigan City, IN | 08/12/09 | 08/11/09
71998 | Hartmarx-Hart Schaffner & Marx (Union) | Des Plaines, IL | 08/12/09 | 08/11/09
71999 | Leigh Fibers, Inc. (Comp) | Wellford, SC | 08/12/09 | 08/11/09
72000 | The Hertz Corporation at the Hertz Technology Center (Wkrs) | Oklahoma City, OK | 08/12/09 | 08/05/09
72001 | Briggs-Shaffner Acquisition Company (Comp) | Yadkinville, NC | 08/12/09 | 08/06/09
72002 | International Automotive Components North America (Wkrs) | Old Fort, NC | 08/12/09 | 08/04/09
72003 | Perry Slingsby Systems, Inc. (Comp) | Jupiter, FL | 08/12/09 | 08/06/09
72004 | Chesterfield Tool and Engineering, Inc. (Wkrs) | Daleville, IN | 08/12/09 | 08/10/09
72005 | Decca Classic (Wkrs) | High Point, NC | 08/12/09 | 08/10/09
72006 | Aerotek Engineering/EASi Engineering (Wkrs) | Troy, MI | 08/12/09 | 08/06/09
72007 | Shelby County JFS (Union) | Sidney, OH | 08/12/09 | 07/31/09
72008 | Metro One Telecommunications (Comp) | Beaverton, OR | 08/12/09 | 08/10/09
72009 | Neopost (Mailroom Technologies) (State) | Milford, CT | 08/12/09 | 08/10/09
72010 | Vesuvius USA (Comp) | Conneaut, OH | 08/12/09 | 08/10/09
72011 | GEC@f-LightingKentucky Glass Plant (IBEW) | Lexington, KY | 08/13/09 | 07/14/09
72012 | Frog Switch Manufacturing Company (Wkrs) | Carlisle, PA | 08/13/09 | 07/18/09
72013 | Anniston Sportswear (Union) | Anniston, AL | 08/13/09 | 08/11/09
72014 | Seats, Inc. (Wkrs) | Richland Center, WI | 08/13/09 | 07/28/09
72015 | Illinois Steel Service, Inc. (Wkrs) | Chicago, IL | 08/13/09 | 08/12/09
72016 | Surgrx, Inc. (Comp) | Redwood City, CA | 08/13/09 | 08/12/09
72017 | MGP Ingredients Inc. (Wkrs) | Pekin, IL | 08/13/09 | 08/11/09
72018 | Smurfit-Stone Container (State) | Portland, CT | 08/13/09 | 08/11/09
72019 | Superior Plastics, LLC (Comp) | Rochester, MI | 08/13/09 | 08/11/09
72020 | Equistar (Wkrs) | Beaumont, TX | 08/13/09 | 08/12/09
72021 | Elco Sintered Alloy's Co Inc. (Comp) | Kersey, PA | 08/13/09 | 08/12/09
72022 | Heidtman Steel Products, Inc. (Comp) | Erie, MI | 08/13/09 | 07/13/09
72023 | Micron Technology Inc. (Comp) | Boise, ID | 08/13/09 | 08/11/09
72024 | Pentair Electronic Packaging (Comp) | Schaumburg, IL | 08/13/09 | 08/11/09
72025 | Momentive Performance Materials (Wkrs) | Waterford, NY | 08/13/09 | 08/03/09
72026 | Pinnacle Airlines (Wkrs) | Evansville, IN | 08/13/09 | 08/12/09
72027 | Straightaway Fabrications, Ltd. (Comp) | Ashland, OH | 08/13/09 | 08/12/09
72028 | Rupert Dental Lab, Inc. (Wkrs) | Oklahoma City, OK | 08/13/09 | 08/04/09
72029 | ACH Saline Plant (Comp) | Saline, MI | 08/14/09 | 08/13/09
72030 | Teijin Monofilament US, Inc. (Comp) | Spartanburg, SC | 08/14/09 | 08/10/09
72031 | Anderson Truck Line, Inc. (Comp) | Hudson, NC | 08/14/09 | 08/13/09
72032 | Marshfield Door Systems (Union) | Marshfield, WI | 08/14/09 | 08/13/09
72033 | Albany International (Comp) | Portland, TN | 08/14/09 | 08/13/09
72034 | Precision Source (Comp) | Smithfield, RI | 08/14/09 | 08/11/09
72035 | MGS MFG Group, Inc. (Wkrs) | Germantown, WI | 08/14/09 | 08/13/09
72036 | Ameriprise Financial Services Corporate (Comp) | Akron, OH | 08/14/09 | 08/13/09
72037 | General Cable Corporation (Wkrs) | Lawrenceburg, KY | 08/14/09 | 08/06/09
72038 | ASM America (Wkrs) | Phoenix, AZ | 08/14/09 | 08/13/09

[FR Doc. E9-22757 Filed 9-21-09; 8:45 am]

BILLING CODE 4510-FN-P